DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on March 26, 2007, Vol. 72, No. 57, page 14163-14164. Data collected serves as input to the FAA revenue passenger database which is used to classify airports and allocate Airport Improvement Program (AIP) funds to airports as required by law.

DATES: Please submit comments by July 16, 2007.

FOR FURTHER INFORMATION CONTACT: Carla Mauney at Carla.Mauney@faa.gov.

SUPPLEMENTARY INFORMATION:

Federal Aviation Administration (FAA)

Title: Air Taxi and Commercial Operator Airport Activity Survey.

Type of Request: Revision of a currently approved collection.

OMB Control Number: 2120-0067.

Forms(s): 1800-31.

Affected Public: An estimated 302 respondents.

Frequency: This information is collected annually.

Estimated Average Burden per Response: Approximately 1.5 hours per response.

Estimated Annual Burden Hours: An estimated 453 hours annually.

Abstract: The survey is restricted to air taxi/commercial operators that are subject to the passenger transportation tax. Data collected serves as input to the FAA revenue passenger database which is used to classify airports and allocate Airport Improvement Program (AIP) funds to airports as required by law.

ADDRESS: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued on Washington, DC, on June 8, 2007.
Carla Mauney,
FAA Information Collection Clearance Officer, Strategy and Investment Analysis Division, AIO-20.

[FR Doc. 07-2943 Filed 6-14-07; 8:45 am]

BILLING CODE 4910-13-M